DEPARTMENT OF TRANSPORTATION

Federal Aviation Administration

14 CFR Part 73

[Docket No. FAA-2018-0520; Airspace Docket No. 18-AWP-9]

RIN 2120-AA66

Amendment of Restricted Area R-2302; Flagstaff, AZ

AGENCY: Federal Aviation Administration (FAA), DOT.

ACTION: Final rule; technical amendment.

SUMMARY: This action changes the time of designation and controlling agency of restricted area R-2302, Flagstaff AZ. The FAA is taking this administrative action in response to the United States Army's limited utilization of the airspace while updating the responsible controlling agency. There are no changes to the boundaries; designated altitudes; or activities conducted within the affected restricted area.

DATES: Effective date: 0901 UTC, September 13, 2018.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it administratively amends the time of designation and controlling agency for restricted area R-2302, Flagstaff, AZ.

History

The FAA evaluates utilization of special use airspace annually. For the past five years the utilization of restricted area R-2302 has declined steadily. The FAA in coordination with the United States Army, has concluded the restricted area is still needed, but at an on-call basis only. Therefore, the airspace will be activated by a Notice to Airman (NOTAM), four hours in advance as opposed to active continuously Monday through Saturday from 0800 to 2400. Additionally, the controlling agency has changed from Albuquerque Air Traffic Control Center (ARTCC) to Phoenix Terminal Radar Approach Control (TRACON) due to a recent alignment of assigned airspace thus making the restricted area fall completely within Phoenix TRACONs assigned airspace.

The Rule

This action amends Title 14 Code of Federal Regulations (14 CFR) part 73 by revising the time of designation and controlling agency listed for restricted area R-2302, Flagstaff, AZ. The time of designation is changed from “active daily, 0800-2400 MST, Monday through Saturday;” to “intermittent by NOTAM only, 4 hours in advance, between 0800 to 2400 MST, Monday through Saturday”. Additionally, the controlling agency for R-2302 is changed from “Albuquerque ARTCC” to “Phoenix TRACON”. These are administrative changes and do not affect the boundaries, designated altitudes, or activities conducted within the restricted area; therefore, notice and public procedures under 5 U.S.C. 553(b) are unnecessary.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of updating the time of designation and controlling agency for restricted area R-2302; Flagstaff, AZ, qualifies for categorical exclusion under the National Environmental Policy Act, and in accordance with FAA Order 1050.1F, Environmental Impacts: Policies and Procedures, paragraph 5-6.5.d, “Modification of the technical description of special use airspace (SUA) that does not alter the dimensions, altitudes, or times of designation of the airspace (such as changes in designation of the controlling or using agency, or correction of typographical errors).” This airspace action is an administrative change to the description of restricted area R-2302; Flagstaff, AZ, to update the time of designation and controlling agency name. It does not alter the dimensions, altitudes, time of designation, or use of the airspace. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 73

Airspace, Prohibited areas, Restricted areas.

The Amendment

In consideration of the foregoing, the Federal Aviation Administration amends 14 CFR part 73, as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.23 [Amended]

2. Section 73.23 is amended as follows:

* * * * *

R-2302 Flagstaff, AZ [Amended]

By removing “Time of designation. Active daily, 0800-2400 MST, Monday through Saturday” and adding in their place “Time of designation. Intermittent by NOTAM only, 4 hours in advance, between 0800 to 2400 MST, Monday-Saturday.

By removing “Controlling agency. Albuquerque ARTCC,” and adding in their place “Controlling agency. FAA, Phoenix TRACON.”

* * * * *

Issued in Washington, DC, on June 20, 2018.
Rodger A. Dean, Jr.,
Manager, Airspace Policy Group.

[FR Doc. 2018-13738 Filed 6-26-18; 8:45 am]

BILLING CODE 4910-13-P